DEPARTMENT OF TRANSPORTATION

Federal Aviation Administration

Notice of Intent To Rule on Application 05-05-C-00-LAS To Impose and Impose and Use Passenger Facility Charge (PFC) at McCarran International Airport, and Use the PFC Revenue at McCarran International, Henderson Executive, and North Las Vegas Airports, Las Vegas, NV

AGENCY: Federal Aviation Administration (FAA), DOT.

ACTION: Notice of intent to rule on application.

SUMMARY: The FAA proposes to rule and invites public comment on the application to impose and impose and use a PFC at McCarran International Airport, and use the revenue of a PFC at McCarran International Airport, Henderson Executive Airport, and North Las Vegas Airport under the provisions of the Aviation Safety and Capacity Expansion Act of 1990 (Title IX of the Omnibus Budget Reconciliation Act of 1990) (Pub. L. 101-508) and part 158 of the Federal Aviation Regulations (14 CFR part 158).

DATES: Comments must be received on or before May 23, 2005.

ADDRESSES: Comments on this application may be mailed or delivered in triplicate to the FAA at the following address: Federal Aviation Administration, Airports Division, 15000 Aviation Blvd., Room 3012, Lawndale, CA 90261, or San Francisco Airports District Office, 831 Mitten Road, Room 210, Burlingame, CA 94010-1303. In addition, one copy of any comments submitted to the FAA must be mailed or delivered to Mr. Randall H. Walker, Director of Aviation, Clark County Department of Aviation, at the following address: P.O. Box 11005, Las Vegas, NV 89111-1005. Air carriers and foreign air carriers may submit copies of written comments previously provided to the Clark County Department of Aviation under § 158.23 of part 158.

FOR FURTHER INFORMATION CONTACT: Joseph Rodriguez, Environmental Planning and Compliance Section Supervisor, San Francisco Airports District Office, 831 Mitten Road, Room 210, Burlingame, CA 94010-1303, telephone: (650) 876-2778, extension 610. The application may be viewed in person at this same location.

SUPPLEMENTARY INFORMATION: The FAA proposes to rule and invites public comment on the application to impose and impose and use a PFC at McCarran International Airport and use the revenue from PFC at McCarran International, Henderson Executive, and North Las Vegas Airports under the provisions of the 49 U.S.C. 40117 and part 158 of the Federal Aviation Regulations (14 CFR part 158).

On March 28, 2005, the FAA determined that the application to impose and impose and use a PFC submitted by the Clark County Department of Aviation was substantially complete within the requirements of § 158.25 of part 158.

The FAA will approve or disapprove the application, in whole or in part, no later than June 24, 2005.

The following is a brief overview of the impose and impose and use application No. 05-05-C-00-LAS.

Proposed charge effective date: November 1, 2015.

Proposed charge expiration date: August 1, 2021.

Level of the proposed PFC: $4.50.

Total estimated PFC revenue: $997,274,700.

Brief description of proposed projects:

Impose Only: Design of terminal 3, Russell Road relocation, and Russell Road Park at McCarran International Airport;

Impose and use: Pedestrian bridge from concourse C gates to concourses A/B gates, in-line explosives detection systems, taxiway B renovation/taxiway C extension, central plant upgrade, heating ventilation and air conditioning upgrades in concourses A/B, ramp rehabilitation, and satellite D apron at McCarran International Airport; construct terminal and ramp, and relocate airport traffic control tower at Henderson Executive Airport; construct east side basing improvements at North Las Vegas Airport.

Class or classes or air carriers which the public agency has requested not be required to collect PFCs: Non-Scheduled On-Demand Air Carriers filing FAA Form 1800-31.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice and other documents germane to the application in person at the Clark County Department of Aviation.

Issued in Lawndale, California, on March 28, 2005.
Mia Paredes Ratcliff,
Manager, Planning and Programming Branch, Western-Pacific Region.

[FR Doc. 05-7972 Filed 4-20-05; 8:45 am]

BILLING CODE 4910-13-M